FEDERAL COMMUNICATIONS COMMISSION

[Report No. 2409]

Petition for Clarification of Action in Rulemaking Proceeding

Dated: May 11, 2000.

Petition for Clarification has been filed in the Commission's rulemaking proceeding listed in this Public Notice and published pursuant to 47 CFR Section 1.429(e). The full text of this document is available for viewing and copying in Room CY-A257, 445 12th Street, S.W., Washington, D.C. or may be purchased from the Commission's copy contractor, ITS, Inc. (202) 857-3800. Oppositions to this petition must be filed by June 1, 2000. See Section 1.4(b)(1) of the Commission's rules (47 CFR 1.4(b)(1)). Replies to an opposition must be filed within 10 days after the time for filing oppositions has expired.

Subject: Service Rules for the 746-764 and 776-794 MHz Bands, and Revisions to Part 27 of the Commission's Rules (WT Docket No. 99-168)

Number of Petitions Filed: 1.

Federal Communications Commission.

Magalie Roman Salas,
Secretary.

[FR Doc. 00-12363 Filed 5-16-00; 8:45 am]

BILLING CODE 6712-01-M